COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add service(s) to the Procurement List that will be furnished by nonprofit agencies employing persons who are blind or have other severe disabilities and deletes product(s) and service(s) previously furnished by such agencies.

DATES: Comments must be received on or before: May 25, 2025.

ADDRESSES: Committee for Purchase From People Who Are Blind or Severely Disabled, 355 E Street SW, Suite 325, Washington, DC 20024.

FOR FURTHER INFORMATION CONTACT: For further information or to submit comments contact: Michael R. Jurkowski, telephone: (703) 489-1322, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

In accordance with 41 CFR 51-5.3(b), the Committee intends to add the services listed below to the Procurement List as a mandatory purchase only for contracting activities at the locations listed, with the proposed qualified nonprofit agency as the authorized source of supply. Prior to adding the service to the Procurement List, the Committee will consider other pertinent information, including information from Government personnel and relevant comments from interested parties regarding the Committee's intent to geographically limit this services requirement.

Service(s)

Service Type: Warehouse Support Service

Mandatory for: U.S. Navy, NAVSUP Fleet Logistics Center Jacksonville, Naval Station Mayport, Mayport, FL

Authorized Source of Supply: Challenge Enterprises of North Florida, Inc., Green Cove Springs, FL

Contracting Activity: DEPT OF THE NAVY, NAVSUP FLT LOG CTR JACKSONVILLE

Service Type: Mailroom Operation

Mandatory for: U.S. Air Force, Official Mail Center, Kirtland Air Force Base, NM

Service Type: Mailroom Operation

Mandatory for: U.S. Air Force, Postal Service Center, Kirtland Air Force Base, NM

Authorized Source of Supply: VersAbility Resources, Inc., Hampton, VA

Contracting Activity: DEPT OF THE AIR FORCE, FA9401 AFNWC PZI

Deletions

The following product(s) and service(s) are proposed for deletion from the Procurement List:

Product(s)

NSN(s)—Product Name(s): 7920-01-215-6568—Cloth, Synthetic Shammy, Assorted Colors, 15″ x 15″

Authorized Source of Supply: Industries for the Blind and Visually Impaired, Inc., West Allis, WI

Contracting Activity: STRATEGIC ACQUISITION CENTER, FREDERICKSBURG, VA

Contracting Activity: GSA/FSS GREATER SOUTHWEST ACQUISITI, FORT WORTH, TX

NSN(s)—Product Name(s):

9905-01-661-2140—Flag, Marking, 4″ x 5″, 21″ Staff, Yellow

9905-01-661-2150—Flag, Marking, 4″ x 5″, 21″ Staff, Fluorescent Orange

9905-01-661-2151—Flag, Marking, 4″ x 5″, 21″ Staff, Fluorescent Pink

Authorized Source of Supply: West Texas Lighthouse for the Blind, San Angelo, TX

Contracting Activity: GSA/FSS GREATER SOUTHWEST ACQUISITI, FORT WORTH, TX

NSN(s)—Product Name(s): 8415-01-204-2668—Sleeves, Arm, Radioactive Contaminants Protective, Yellow, Universal

Contracting Activity: DLA TROOP SUPPORT, PHILADELPHIA, PA

NSN(s)—Product Name(s): 1005-00-791-5420—Case, Carrying, M60, Olive

Contracting Activity: DLA LAND AND MARITIME, COLUMBUS, OH

NSN(s)—Product Name(s): 9330-LL-NO1-0397—Sleeve, Protective

Contracting Activity: NAVSUP FLT LOG CTR PUGET SOUND, BREMERTON, WA

NSN(s)—Product Name(s):

8415-01-228-1323—Overalls, Bib, Cold Weather, ECWCS, Army, Brown, XSS

8415-01-228-1324—Overalls, Bib, Cold Weather, ECWCS, Army, Brown, XSL

8415-01-228-1325—Overalls, Bib, Cold Weather, ECWCS, Army, Brown, SSR

8415-01-228-1326—Overalls, Bib, Cold Weather, ECWCS, Army, Brown, SL

8415-01-228-1327—Overalls, Bib, Cold Weather, ECWCS, Army, Brown, MSR

8415-01-228-1328—Overalls, Bib, Cold Weather, ECWCS, Army, Brown, ML

8415-01-228-1329—Overalls, Bib, Cold Weather, ECWCS, Army, Brown, LSR

8415-01-228-1330—Overalls, Bib, Cold Weather, ECWCS, Army, Brown, LL

8415-01-228-1331—Overalls, Bib, Cold Weather, ECWCS, Army, Brown, XLS

8415-01-228-1332—Overalls, Bib, Cold Weather, ECWCS, Army, Brown, XLL

Authorized Source of Supply: ORC Industries, Inc., La Crosse, WI

Authorized Source of Supply: TradeWinds Services, Inc., Merrillville, IN

Authorized Source of Supply: Peckham Vocational Industries, Inc., Lansing, MI

Contracting Activity: DLA TROOP SUPPORT, PHILADELPHIA, PA

NSN(s)—Product Name(s):

8415-00-177-7992—Socks, Extreme Cold Weather 100% Wool, ECWCS, White, Small

8415-00-177-7993—Socks, Extreme Cold Weather 100% Wool, ECWCS, White, Medium

Authorized Source of Supply: Dawn Enterprises, Inc., Blackfoot, ID

Contracting Activity: DLA TROOP SUPPORT, PHILADELPHIA, PA

Service(s)

Service Type: Janitorial/Custodial

Mandatory for: Department of Veteran Affairs, VA Southern Neveda Healthcare System, Pahrump Community Outpatient Clinic, Pahrump, NV

Authorized Source of Supply: Opportunity Village, Las Vegas, NV

Contracting Activity: VETERANS AFFAIRS, DEPARTMENT OF, 262-NETWORK CONTRACT OFFICE 22

Service Type: Janitorial/Custodial

Mandatory for:

VA Data Center (Diablo Site), Las Vegas, NV

VA Outpatient Clinic: East Clinic (La Canada), Las Vegas, NV

VA Outpatient Clinic: Central Clinic (Delta Point), Las Vegas, NV

VA Outpatient Clinic: North Clinic (Nucleus Plaza), Las Vegas, NV

VA Outpatient Clinic: Northwest Clinic, Las Vegas, NV

VA Outpatient Clinic: Southeast Clinic (Ambulatory Procedures), Las Vegas, NV

VA Outpatient Clinic: Southwest Clinic (South Jones), Las Vegas, NV

VA Outpatient Clinic: West Clinic (Rancho/Palomino), Las Vegas, NV

VA Warehouse, 1841 E. Craig Road, Las Vegas, NV

Authorized Source of Supply: Opportunity Village, Las Vegas, NV

Contracting Activity: VETERANS AFFAIRS, DEPARTMENT OF, 262-NETWORK CONTRACT OFFICE 22

Service Type: Laundry Service

Mandatory for: U.S. Marine Corps, Marine Corps Logistics Base, Albany, GA

Authorized Source of Supply: Wiregrass Rehabilitation Center, Inc., Dothan, AL

Contracting Activity: DEPT OF THE NAVY, COMMANDER

Service Type: Janitorial/Custodial

Mandatory for: Department of Veterans Affairs, National Acquisition Center, Building 37, Hines, IL

Authorized Source of Supply:Jewish Child and Family Services, Chicago, IL

Contracting Activity: VETERANS AFFAIRS, DEPARTMENT OF, DEPARTMENT OF VETERANS AFFAIRS

Service Type: Janitorial/Custodial

Mandatory for: Department of Veterans Affairs, Hines Information and Technology Center, Hines, IL

Authorized Source of Supply: Jewish Child and Family Services, Chicago, IL

Contracting Activity: VETERANS AFFAIRS, DEPARTMENT OF, ACQUISITION OPERATION SERVICE (049A3)

Service Type: Supply and Warehousing Service

Mandatory for: Department of Veterans Affairs, Service Distribution Center, Building 37, Hines, IL

Authorized Source of Supply: Jewish Child and Family Services, Chicago, IL

Contracting Activity: VETERANS AFFAIRS, DEPARTMENT OF, DEPARTMENT OF VETERANS AFFAIRS

Service Type: Shelf Stocking, Custodial & Warehousing

Mandatory for: Defense Commissary Agency, Bangor Naval Base Kitsap Commissary, Silverdale, WA

Authorized Source of Supply: Peninsula Services, Bremerton, WA

Contracting Activity: DEFENSE COMMISSARY AGENCY (DECA), DEFENSE COMMISSARY AGENCY

Michael R. Jurkowski,
Director, Business Operations.

[FR Doc. 2025-07156 Filed 4-24-25; 8:45 am]

BILLING CODE 6353-01-P